DEPARTMENT OF COMMERCE

International Trade Administration

[C-580-818]

Corrosion-Resistant Carbon Steel Flat Products From the Republic of Korea: Extension of Time Limit for Preliminary Results of Countervailing Duty Administrative Review

AGENCY: Import Administration, International Trade Administration, Department of Commerce.

DATES: Effective Date: March 22, 2012.

FOR FURTHER INFORMATION CONTACT: Gayle Longest, AD/CVD Operations, Office 3, Import Administration, International Trade Administration, U.S. Department of Commerce, 14th Street and Constitution Avenue NW., Washington, DC 20230; telephone: (202) 482-3338.

SUPPLEMENTARY INFORMATION:

Background

On August 17, 1993, the Department published in the Federal Register the countervailing duty order on corrosion-resistant carbon steel flat products (CORE) from Korea.¹ On August 1, 2011, the Department published a notice of “Opportunity to Request Administrative Review” of this countervailing duty order.² In accordance with 19 CFR 351.221(c)(1)(i), we published a notice of initiation of the administrative review on October 3, 2011, for the January 1, 2010, through December 31, 2010, period of review (POR).³ The preliminary results for this review are currently due no later than May 2, 2012.

¹ See Countervailing Duty Orders and Amendments of Final Affirmative Countervailing Duty Determinations: Certain Steel Products from Korea, 58 FR 43752 (August 17, 1993).

² See Antidumping or Countervailing Duty Order, Finding, or Suspended Investigation; Opportunity to Request Administrative Review, 76 FR 45773 (August 1, 2011).

³ See Initiation of Antidumping and Countervailing Duty Administrative Reviews and Requests for Revocations in Part, 76 FR 61076 (October 3, 2011).

Extension of Time Limits for Preliminary Results

Section 751(a)(3)(A) of the Tariff Act of 1930, as amended (the Act), requires the Department to issue the preliminary results of an administrative review within 245 days after the last day of the anniversary month of an order for which a review is requested and the final results of review within 120 days after the date on which the preliminary results are published. If it is not practicable to complete the review within the time period, section 751(a)(3)(A) of the Act allows the Department to extend these deadlines to a maximum of 365 days and 180 days, respectively.

Because the Department will require additional time to review and analyze supplemental information concerning new subsidy programs alleged by petitioners, and may issue further supplemental questionnaires, it is not practicable to complete this review by the original deadline (i.e., May 2, 2012). Therefore, the Department is extending the time limit for completion of the preliminary results by 120 days to not later than August 30, 2012, in accordance with section 751(a)(3)(A) of the Act.

We are issuing and publishing this notice in accordance with sections 751(a)(1) and 777(i)(1) of the Act.

Dated: March 16, 2012.
Gary Taverman,
Acting Deputy Assistant Secretary for Antidumping and Countervailing Duty Operations.

[FR Doc. 2012-6942 Filed 3-21-12; 8:45 am]

BILLING CODE 3510-DS-P